DEPARTMENT OF THE INTERIOR

National Park Service

[NPS-WASO-NAGPRA-22872; PPWOCRADN0-PCU00RP14.R50000]

Notice of Intent To Repatriate Cultural Items: Denver Museum of Nature & Science, Denver, CO

AGENCY: National Park Service, Interior.

ACTION: Notice.

SUMMARY: The Denver Museum of Nature & Science, in consultation with the appropriate Indian tribes or Native Hawaiian organizations, has determined that the cultural items listed in this notice meet the definition of sacred objects. Lineal descendants or representatives of any Indian tribe or Native Hawaiian organization not identified in this notice that wish to claim these cultural items should submit a written request to the Denver Museum of Nature & Science, Denver, CO. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Denver Museum of Nature & Science, Denver, CO at the address in this notice by April 6, 2017.

ADDRESSES: Chip Colwell, Senior Curator of Anthropology and NAGPRA Officer, Denver Museum of Nature & Science, 2001 Colorado Boulevard, Denver, CO 80205, telephone (303) 370-6378, email Chip.Colwell@dmns.org.

SUPPLEMENTARY INFORMATION: Notice is here given in accordance with the Native American Graves Protection and Repatriation Act (NAGPRA), 25 U.S.C. 3005, of the intent to repatriate cultural items under the control of the Denver, CO, that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

Around 1925, one cultural item was removed from an unknown wooded location. It had been given or sold to a local collector before Karen Petersen obtained it in 1975. Petersen sold it to Mary and Francis Crane on February 19, 1976, and the Cranes donated it to the Denver Museum of Nature & Science on May 27, 1983. In the 1950s, Karen Petersen and her husband Sydney Petersen spent their summers visiting Anishinaabe communities, camping out and buying crafts from tribal members. When she was able to sell items, she sold them through churches in St. Paul, MN. She also collected Anishinaabe objects for the Science Museum of Minnesota as a staff member from 1958 to 1964. The one cultural item (AC.11537) is a water drum. It had been left in the woods for religious reasons. The drum has broken into six pieces but is still ceremonially significant today because of the etchings on the wood that contain a song or story.

Museum accession, catalogue, and documentary records, as well as consultation with a representative of the Grand Portage Band of the Minnesota Chippewa Tribe, Minnesota, indicate that the one cultural item is Ojibwe and is from the Grand Portage Indian Reservation in northern Minnesota.

Determinations Made by the Denver Museum of Nature & Science

Officials of the Denver Museum of Nature & Science have determined that:

• Pursuant to 25 U.S.C. 3001(3)(C), the one cultural item described above is a specific ceremonial object needed by traditional Native American religious leaders for the practice of traditional Native American religions by their present-day adherents.

• Pursuant to 25 U.S.C. 3001(2), there is a relationship of shared group identity that can be reasonably traced between the sacred object and the Grand Portage Band of the Minnesota Chippewa Tribe, Minnesota.

Additional Requestors and Disposition

Lineal descendants or representatives of any Indian tribe or Native Hawaiian organization not identified in this notice that wish to claim this cultural item should submit a written request with information in support of the claim to Chip Colwell, Senior Curator of Anthropology and NAGPRA Officer, Denver Museum of Nature & Science, 2001 Colorado Boulevard, Denver, CO 80205, telephone (303) 370-6378, email Chip.Colwell@dmns.org, by April 6, 2017. After that date, if no additional claimants have come forward, transfer of control of the sacred object to the Grand Portage Band of the Minnesota Chippewa Tribe, Minnesota may proceed.

The Denver Museum of Nature & Science is responsible for notifying the Grand Portage Band of the Minnesota Chippewa Tribe, Minnesota that this notice has been published.

Dated: February 6, 2017.
Melanie O'Brien,
Manager, National NAGPRA Program.

[FR Doc. 2017-04405 Filed 3-6-17; 8:45 am]

BILLING CODE 4312-52-P